CENTRAL INTELLIGENCE AGENCY

32 CFR Part 1910

Debarment and Suspension Procedures

AGENCY: Central Intelligence Agency.

ACTION: Final rule.

SUMMARY: In accordance with its statutory procurement authorities, the Central Intelligence Agency (CIA) has established a policy whereby the rights of CIA contractors in all matters involving debarment and suspension will be governed by the debarment and suspension provisions of the Federal Acquisition Regulation.

DATES: Effective October 29, 2004.

FOR FURTHER INFORMATION CONTACT: Harvy P. Cooper, Legal Staff, Office of the Chief Information Officer, Central Intelligence Agency, telephone 703-613-1287.

SUPPLEMENTARY INFORMATION: None.

List of Subjects in 32 CFR Part 1910

Debarment and suspension procedures.

For the reasons stated in the preamble, the Central Intelligence Agency adds 32 CFR Part 1910 as follows:

PART 1910—DEBARMENT AND SUSPENSION PROCEDURES

Sec.
1910.1 General.

Authority: 50 U.S.C. 401-442; 50 U.S.C. 403a-403u; 48 CFR ch. 1, subpart 9.4.

§ 1910.1 General.

The Central Intelligence Agency (CIA), in accordance with its authorities under the Central Intelligence Agency Act of 1949, as amended, and the National Security Act of 1947, as amended, has an established debarment and suspension process in accordance with subpart 9.402(d) of the Federal Acquisition Regulation (FAR). This process and the causes for debarment and suspension are consistent with those found in FAR 9.406 and 9.407. The rights of CIA contractors in all matters involving debarment and suspension are hereby governed by the provisions of subpart 9.4 of the FAR.

Dated: October 14, 2004.
Edmund Cohen,
Director of Information Management Services, Office of the Chief Information Officer.

[FR Doc. 04-24218 Filed 10-28-04; 8:45 am]

BILLING CODE 6310-02-P